DEPARTMENT OF LABOR

Employment and Training Administration

Notice on Reallotment of Workforce Investment Act (WIA) Title I Formula Allotted Funds for Dislocated Worker Activities for Program Year (PY) 2011

AGENCY: Employment and Training Administration (ETA), Labor.

ACTION: Notice.

SUMMARY: Public Law 105-220, the Workforce Investment Act of 1998, requires the Secretary of Labor (Secretary) to conduct reallotment of dislocated worker formula allotted funds based on State financial reports submitted as of the end of the prior program year. This notice publishes the dislocated worker PY 2011 funds for recapture by State and the amount to be reallotted to eligible States.

DATES: This notice is effective April 27, 2012.

FOR FURTHER INFORMATION CONTACT: Ms. Amanda Ahlstrand, Acting Administrator, Office of Workforce Investment, Employment and Training Administration, U.S. Department of Labor, 200 Constitution Avenue NW., Room C-4526, Washington, DC 20210. Telephone (202) 693-3980 (this is not a toll-free number) or fax (202) 693-3981.

SUPPLEMENTARY INFORMATION: WIA Section 132(c) requires the Secretary to conduct reallotment of dislocated worker funds based on financial reports submitted by States as of the end of the prior program year.

The procedures the Secretary uses for recapture and reallotment of funds are described in the WIA regulation at 20 CFR 667.150. Training and Employment Guidance Letter No. 26-10 advised States that reallotment of funds under WIA will occur during PY 2011 based on State obligations made in PY 2010. We will not recapture any PY 2011 funds for Adult and Youth programs because in no case do PY 2010 unobligated funds exceed the statutory requirement of 20 percent of State allotted funds. There was recapture and reallotment of WIA Dislocated Worker funds in PY 2010.

Excess unobligated State funds in the amount of $251,529 will be captured from PY 2011 formula allotted funds for the dislocated worker program for one State and distributed by formula to PY 2011 dislocated worker funds for eligible States. The description of the methodology used for the calculation of the recapture/reallotment amounts and the distribution of the changes to PY 2011 formula allotments for dislocated worker activities are included in this notice (see Section III below).

WIA Section 132 (c) requires the governor to prescribe equitable procedures for making funds available from the State and local areas in the event that the State is required to make funds available for reallotment.

I. Attachment A

U.S. Department of Labor
[Employment and Training Administration, WIA Dislocated Worker Activities, PY 2011 Reallotment to States]
| Excess unobligated PY 2010 funds for recapture in PY 2011 | PY 2010 * dislocated worker allotments for eligible states | PY 2011 reallotment amount for eligible states | Total PY 2011 allotments | Total adjustment to PY 2011 (recapture/ reallotment) | Revised total PY 2011 allotments
Alabama | $0 | $17,648,171 | $3,770 | $16,103,978 | $3,770 | $16,107,748
Alaska | 0 | 2,185,129 | 467 | 1,801,832 | 467 | 1,802,299
Arizona ** | 0 | 22,761,022 | 4,862 | 21,958,487 | 4,862 | 21,963,349
Arkansas | 0 | 6,859,643 | 1,465 | 6,525,077 | 1,465 | 6,526,542
California | 0 | 192,209,289 | 41,056 | 170,043,518 | 41,056 | 170,084,574
Colorado | 0 | 14,493,167 | 3,096 | 13,947,918 | 3,096 | 13,951,014
Connecticut | 0 | 11,838,447 | 2,529 | 12,099,340 | 2,529 | 12,101,869
Delaware | 0 | 2,775,581 | 593 | 2,523,025 | 593 | 2,523,618
District of Columbia | 0 | 2,987,462 | 638 | 2,588,817 | 638 | 2,589,455
Florida | 0 | 82,926,540 | 17,713 | 81,146,334 | 17,713 | 81,164,047
Georgia | 0 | 40,868,318 | 8,730 | 35,448,102 | 8,730 | 35,456,832
Hawaii | 0 | 3,264,115 | 697 | 2,535,324 | 697 | 2,536,021
Idaho | 0 | 4,531,232 | 968 | 4,234,037 | 968 | 4,235,005
Illinois | 0 | 54,617,380 | 11,666 | 52,311,422 | 11,666 | 52,323,088
Indiana | 0 | 27,227,011 | 5,816 | 22,936,088 | 5,816 | 22,941,904
Iowa | 0 | 5,881,598 | 1,256 | 6,212,899 | 1,256 | 6,214,155
Kansas | 0 | 6,847,260 | 1,463 | 5,771,477 | 1,463 | 5,772,940
Kentucky | 0 | 18,069,138 | 3,860 | 14,962,447 | 3,860 | 14,966,307
Louisiana | 0 | 9,801,581 | 2,094 | 8,755,097 | 2,094 | 8,757,191
Maine | 251,529 | 0 | 0 | 3,593,738 | (251,529) | 3,342,209
Maryland | 0 | 15,524,552 | 3,316 | 14,280,338 | 3,316 | 14,283,654
Massachusetts | 0 | 22,681,107 | 4,845 | 21,033,198 | 4,845 | 21,038,043
Michigan | 0 | 64,477,068 | 13,773 | 51,206,873 | 13,773 | 51,220,646
Minnesota | 0 | 18,001,919 | 3,845 | 12,869,603 | 3,845 | 12,873,448
Mississippi | 0 | 9,857,567 | 2,106 | 10,134,604 | 2,106 | 10,136,710
Missouri | 0 | 22,199,883 | 4,742 | 19,157,714 | 4,742 | 19,162,456
Montana | 0 | 2,172,390 | 464 | 2,044,172 | 464 | 2,044,636
Nebraska | 0 | 2,425,657 | 518 | 2,056,541 | 518 | 2,057,059
Nevada | 0 | 14,109,081 | 3,014 | 14,310,158 | 3,014 | 14,313,172
New Hampshire | 0 | 3,178,188 | 679 | 2,760,460 | 679 | 2,761,139
New Jersey | 0 | 33,036,397 | 7,057 | 32,201,066 | 7,057 | 32,208,123
New Mexico ** | 0 | 4,088,279 | 873 | 5,171,897 | 873 | 5,172,770
New York | 0 | 65,461,775 | 13,983 | 55,804,488 | 13,983 | 55,818,471
North Carolina | 0 | 43,990,709 | 9,397 | 35,042,869 | 9,397 | 35,052,266
North Dakota | 0 | 689,396 | 147 | 499,156 | 147 | 499,303
Ohio | 0 | 51,555,231 | 11,012 | 44,012,508 | 11,012 | 44,023,520
Oklahoma | 0 | 6,897,559 | 1,473 | 6,906,804 | 1,473 | 6,908,277
Oregon | 0 | 20,144,221 | 4,303 | 15,054,272 | 4,303 | 15,058,575
Pennsylvania | 0 | 39,519,031 | 8,441 | 37,914,512 | 8,441 | 37,922,953
Puerto Rico | 0 | 17,040,157 | 3,640 | 13,675,088 | 3,640 | 13,678,728
Rhode Island | 0 | 6,090,021 | 1,301 | 5,096,307 | 1,301 | 5,097,608
South Carolina | 0 | 23,064,788 | 4,927 | 19,157,131 | 4,927 | 19,162,058
South Dakota | 0 | 999,261 | 213 | 839,629 | 213 | 839,842
Tennessee | 0 | 26,900,645 | 5,746 | 22,094,179 | 5,746 | 22,099,925
Texas | 0 | 61,307,760 | 13,096 | 61,926,140 | 13,096 | 61,939,236
Utah ** | 0 | 4,620,458 | 987 | 6,053,827 | 987 | 6,054,814
Vermont | 0 | 1,785,950 | 381 | 1,242,041 | 381 | 1,242,422
Virginia | 0 | 18,450,205 | 3,941 | 18,453,304 | 3,941 | 18,457,245
Washington | 0 | 24,243,473 | 5,178 | 22,238,858 | 5,178 | 22,244,036
West Virginia | 0 | 4,545,822 | 971 | 4,552,003 | 971 | 4,552,974
Wisconsin | 0 | 19,910,847 | 4,253 | 17,319,011 | 4,253 | 17,323,264
Wyoming | 0 | 785,065 | 168 | 1,199,212 | 168 | 1,199,380
State Total | 251,529 | 1,177,546,546 | 251,529 | 1,061,806,920 | 0 | 1,061,806,920
* Including rescissions based on the statutory formula and prior year recapture/reallotment amounts.
** Includes Navajo Nation.

II. Attachment B

U.S. Department of Labor
[Employment and Training Administration, WIA Dislocated Worker Activities, PY 2011 Revised Allotments With Reallotment]
| Total: Original | Total: Recapt/ reallot | Total: Revised | Available 7/1/11: Original | Available 7/1/11: R/R | Available 7/1/11: Revised | Available 10/1/11: Original | Available 10/1/11: Recapt/ reallot | Available 10/1/11: Revised
AL | 16,103,978 | 3,700 | 16,107,748 | 3,085,372 |  | 3,085,372 | 13,018,606 | 3,770 | 13,022,376
AK | 1,801,832 | 467 | 1,802,299 | 345,214 |  | 345,214 | 1,456,618 | 467 | 1,457,085
AZ | 21,958,487 | 4,862 | 21,963,349 | 4,207,042 |  | 4,207,042 | 17,751,445 | 4,862 | 17,756,307
AR * | 6,525,077 | 1,465 | 6,526,542 | 1,250,144 |  | 1,250,144 | 5,274,933 | 1,465 | 5,276,398
CA | 170,043,518 | 41,056 | 170,084,574 | 32,578,755 |  | 32,578,755 | 137,464,763 | 41,056 | 137,505,819
CO | 13,947,918 | 3,096 | 13,951,014 | 2,672,291 |  | 2,672,291 | 11,275,627 | 3,096 | 11,278,723
CT | 12,099,340 | 2,529 | 12,101,869 | 2,318,121 |  | 2,318,121 | 9,781,219 | 2,529 | 9,783,748
DE | 2,523,025 | 593 | 2,523,618 | 438,388 |  | 483,388 | 2,039,637 | 593 | 2,040,230
DC | 2,588,817 | 638 | 2,589,455 | 495,993 |  | 495,993 | 2,092,824 | 638 | 2,093,462
FL | 81,146,334 | 17,713 | 81,164,047 | 15,546,882 |  | 15,546,882 | 65,599,452 | 17,713 | 65,617,165
GA | 35,448,102 | 8,730 | 35,456,832 | 6,791,526 |  | 6,791,526 | 28,656,576 | 8,730 | 28,665,306
HI | 2,535,324 | 697 | 2,536,021 | 485,744 |  | 485,744 | 2,049,580 | 697 | 2,050,277
ID | 4,234,037 | 968 | 4,235,005 | 811,202 |  | 811,202 | 3,422,835 | 968 | 3,423,803
IL | 52,311,422 | 11,666 | 52,323,088 | 10,022,382 |  | 10,022,382 | 42,289,040 | 11,666 | 42,300,706
IN | 22,936,088 | 5,816 | 22,941,904 | 4,394,341 |  | 4,394,341 | 18,541,747 | 5,816 | 18,547,563
IA | 6,212,899 | 1,256 | 6,214,155 | 1,190,334 |  | 1,190,334 | 5,022,565 | 1,256 | 5,023,821
KS | 5,771,477 | 1,463 | 5,772,940 | 1,105,761 |  | 1,105,761 | 4,665,716 | 1,463 | 4,667,179
KY | 14,962,447 | 3,860 | 14,966,307 | 2,866,666 |  | 2,866,666 | 12,095,781 | 3,860 | 12,099,641
LA | 8,755,097 | 2,094 | 8,757,191 | 1,677,395 |  | 1,677,395 | 7,077,702 | 2,094 | 7,079,796
ME | 3,593,738 | (251,529) | 3,342,209 | 688,527 |  | 688,527 | 2,905,211 | (251,529) | 2,653,682
MD | 14,280,338 | 3,316 | 14,283,654 | 2,735,980 |  | 2,735,980 | 11,544,358 | 3,316 | 11,547,674
MA | 21,033,198 | 4,845 | 21,038,043 | 4,029,765 |  | 4,029,765 | 17,003,433 | 4,845 | 17,008,278
MI | 51,206,873 | 13,773 | 51,220,646 | 9,810,760 |  | 9,810,760 | 41,396,113 | 13,773 | 41,409,886
MN | 12,869,603 | 3,845 | 12,873,448 | 2,465,696 |  | 2,465,696 | 10,403,907 | 3,845 | 10,407,752
MS | 10,134,604 | 2,106 | 10,136,710 | 1,941,696 |  | 1,941,696 | 8,192,908 | 2,106 | 8,195,014
MO | 19,157,714 | 4,742 | 19,162,456 | 3,670,440 |  | 3,670,440 | 15,487,274 | 4,742 | 15,492,016
MT | 2,044,172 | 464 | 2,044,636 | 391,644 |  | 391,644 | 1,652,528 | 464 | 1,652,992
NE | 2,056,541 | 518 | 2,057,059 | 394,014 |  | 394,014 | 1,662,527 | 518 | 1,663,045
NV | 14,310,158 | 3,014 | 14,313,172 | 2,741,693 |  | 2,741,693 | 11,568,465 | 3,014 | 11,571,479
NH | 2,760,460 | 679 | 2,761,139 | 528,879 |  | 528,879 | 2,231,581 | 679 | 2,232,260
NJ | 32,201,066 | 7,057 | 32,208,123 | 6,169,425 |  | 6,169,425 | 26,031,641 | 7,057 | 26,038,698
NM * | 5,171,897 | 873 | 5,172,770 | 990,887 |  | 990,887 | 4,181,010 | 873 | 4,181,883
NY | 55,804,488 | 13,983 | 55,818,471 | 10,691,620 |  | 10,691,620 | 45,112,868 | 13,983 | 45,126,851
NC | 35,042,869 | 9,397 | 35,052,266 | 6,713,887 |  | 6,713,887 | 28,328,982 | 9,397 | 28,338,379
ND | 499,156 | 147 | 499,303 | 95,634 |  | 95,634 | 403,522 | 147 | 403,669
OH | 44,012,508 | 11,012 | 44,023,520 | 8,432,387 |  | 8,432,387 | 35,580,121 | 11,012 | 35,591,133
OK | 6,906,804 | 1,473 | 6,908,277 | 1,323,279 |  | 1,323,279 | 5,583,525 | 1,473 | 5,584,998
OR | 15,054,272 | 4,303 | 15,058,575 | 2,884,258 |  | 2,884,258 | 12,170,014 | 4,303 | 12,174,317
PA | 37,914,512 | 8,441 | 37,922,953 | 7,264,068 |  | 7,264,068 | 30,650,444 | 8,441 | 30,658,885
PR | 13,675,088 | 3,640 | 13,678,728 | 2,620,020 |  | 2,620,020 | 11,055,068 | 3,640 | 11,058,708
RI | 5,096,307 | 1,301 | 5,097,608 | 976,405 |  | 976,405 | 4,119,902 | 1,301 | 4,121,203
SC | 19,157,131 | 4,927 | 19,162,058 | 3,670,328 |  | 3,670,328 | 15,486,803 | 4,927 | 15,491,730
SD | 839,629 | 213 | 839,842 | 160,865 |  | 160,865 | 678,764 | 213 | 678,977
TN | 22,094,179 | 5,746 | 22,099,925 | 4,233,039 |  | 4,233,039 | 17,861,140 | 5,746 | 17,866,886
TX | 61,926,140 | 13,096 | 61,939,236 | 11,864,472 |  | 11,864,472 | 50,061,668 | 13,096 | 50,074,764
UT * | 6,053,827 | 987 | 6,054,814 | 1,159,857 |  | 1,159,857 | 4,893,970 | 987 | 4,894,957
VT | 1,242,041 | 381 | 1,242,422 | 237,963 |  | 237,963 | 1,004,078 | 381 | 1,004,459
VA | 18,453,304 | 3,941 | 18,457,245 | 3,535,481 |  | 3,535,481 | 14,917,823 | 3,941 | 14,921,764
WA | 22,238,858 | 5,178 | 22,244,036 | 4,260,758 |  | 4,260,758 | 17,978,100 | 5,178 | 17,983,278
WV | 4,552,003 | 971 | 4,552,974 | 872,121 |  | 872,121 | 3,679,882 | 971 | 3,680,853
WI | 17,319,011 | 4,253 | 17,323,264 | 3,318,161 |  | 3,318,161 | 14,000,850 | 4,253 | 14,005,103
WY | 1,199,212 | 168 | 1,199,380 | 229,758 |  | 229,758 | 969,454 | 168 | 969,622
Total | 1,061,806,920 | (0) | 1,061,806,920 | 203,432,320 |  | 203,432,320 | 858,374,600 | (0) | 858,374,600
* Includes funds allocated to the Navajo Nation.

III. Attachment C—Dislocated Worker State Formula PY 2011 Reallotment Methodology

Reallotment Summary: This year ETA analyzed State WIA Dislocated Worker 9130 financial reports from the June 30, 2011 reporting period for PY 2010 to determine if any State had unobligated funds in excess of 20 percent of their PY 2010 allotment amount. If so, that amount will be recaptured from PY 2011 funds and realloted among eligible states.

• Source Data: State WIA 9130 financial status reports.

• Programs:

State Dislocated Worker.

State Rapid Response.

Local Dislocated Worker (includes local administration).

• Period: June 30, 2011.

• Years covered: PY 2010 and Fiscal Year (FY) 2011.

Reallotment Calculations:

(1) Each State's total amount of State obligations of PY 2010 (including FY 2011) funds for the Dislocated Worker program is calculated. State obligations are considered to be the total of the Dislocated Worker statewide activities obligations, Rapid Response obligations, and 100 percent of local Dislocated Worker program authorized (which includes local admin authorized). The Dislocated Worker total unobligated balance is calculated to be the Dislocated Worker 2010 allotment amount (adjusted for recapture/reallotment and statutory formula-based rescissions) less the calculated total Dislocated Worker obligations. (For re-allotment purposes, Dislocated Worker allotted funds transferred to the Navajo Nation are added back to Arizona, New Mexico, and Utah Local Dislocated Worker authorized amounts).

(2) Section 667.150 of the regulations provides that the recapture calculations exclude the reserve for State administration. Data on State administrative authorized and obligated amounts are not normally available on WIA 9130 financial reports. Therefore, additional data on State administrative amounts included in the PY 2010 and FY 2011 statewide activities amounts authorized and obligated as of June 30, 2011 are requested from those States calculated to be potentially liable for recapture.

(3) In the preliminary calculation to determine States potentially liable for recapture, the Dislocated Worker portion of the state administrative amounts authorized and obligated (100 percent of authorized is treated as obligated) is estimated by calculating the five percent maximum amount for State Dislocated Worker administrative costs using the Dislocated Worker state allotment amounts (adjusted for recapture/reallotment and statutory formula-based rescissions). If a State provides actual State Dislocated Worker administrative costs authorized and obligated in the comments section of revised 9130 reports, this data replaces the estimates. Based on the requested additional actual data submitted by potentially liable States on revised reports, the Dislocated Worker total allotment for these States is reduced by the Dislocated Worker portion of the State administrative amount authorized and the Dislocated Worker total obligations for these States are reduced by the Dislocated Worker portion of the State administrative amounts obligated. These calculations are done separately for PY 2010 and FY 2011, with final calculations being added together for the total year amounts.

(4) States (including those adjusted by State administrative data) with unobligated balances for combined PY 2010/FY 2011 exceeding 20 percent of the combined PY 2010/FY 2011 Dislocated Worker allotment (adjusted for recapture/reallotment and statutory formula-based rescissions) will have their PY 2011 Dislocated Worker funding (FY 2012 portion) reduced (recaptured) by the amount of the excess.

(5) As calculated above, states with unobligated balances not exceeding 20 percent will receive in their PY 2011 Dislocated Worker funding (FY 2012 portion) a share of the total recaptured amount based on their share of the total PY 2010/FY 2011 Dislocated Worker allotments amount (adjusted for recapture/reallotment, financial sanctions, and statutory formula based rescissions) for all such States.

Signed at Washington, DC this 19th day of April, 2012.
Jane Oates,
Assistant Secretary for Employment and Training.

[FR Doc. 2012-10217 Filed 4-26-12; 8:45 am]

BILLING CODE 4510-30-P